NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 30, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Office of Procurement and Property (N1-16-09-4, 1 item, 1 temporary item). Master files of an electronic information system used to track and manage property assets and related financial information.

2. Department of Agriculture, Food and Nutrition Service (N1-462-09-6, 1 item, 1 temporary item). Master files of an electronic information system that serves as a central repository of product information relating to the Women, Infants, and Children program.

3. Department of Agriculture, Food and Nutrition Service (N1-462-09-8, 1 item, 1 temporary item). Master files of an electronic information system that contains information on recipients or potential recipients of supplemental nutrition assistance who have been or are disqualified from receiving benefits.

4. Department of Defense, Defense Commissary Agency (N1-506-09-2, 2 items, 2 temporary items). Master files and outputs of an electronic information system that tracks sales and receipts, products, pricing, ordering, and inventories at military commissaries.

5. Department of Defense, Defense Commissary Agency (N1-506-09-3, 4 items, 4 temporary items). General correspondence files and informational documents relating to communications and planning.

6. Department of Defense, Defense Commissary Agency (N1-506-09-4, 2 items, 2 temporary items). Master files and outputs of electronic information systems that maintain data on processed meat products sold by military commissaries.

7. Department of Defense, Defense Commissary Agency (N1-506-09-6, 2 items, 2 temporary items). Master files and outputs of an electronic information system used in connection with the pricing and promotion of products at military commissaries.

8. Department of Defense, Defense Security Service (N1-446-09-5, 12 items, 12 temporary items). Records relating to contractor facilities involved in the National Industrial Security Program. Records pertain to such matters as security clearance of facilities, cancellation of clearances, security agreements, and related administrative actions.

9. Department of Education, Office of Management (N1-441-09-21, 2 items, 2 temporary items). Case files relating to complaints by borrowers in connection with Federal student loans. An electronic case tracking system is also included.

10. Department of Education, Office of Management (N1-441-09-20, 1 item, 1 temporary item). Master files of an electronic information system that contains data concerning student loans, including name of recipient, type of loan, loan period, and loan amount.

11. Department of Energy, Southwestern Power Administration (N1-387-10-1, 2 items, 2 temporary items). Records relating to power accounting and billing invoices.

12. Department of Health and Human Services, Centers for Medicare & Medicaid Services (N1-440-09-5, 1 item, 1 temporary item). Master files of an electronic information system that contains information concerning appeals of fee-for-service and managed care decisions under the Medicare program.

13. Department of Homeland Security, U.S. Customs and Border Protection (N1-568-09-1, 1 item, 1 temporary item). Master files of an electronic information system used to manage and track importer compliance audits.

14. Department of the Interior, Office of the Secretary (N1-48-08-22, 22 items, 17 temporary items). Records relating to management and administration, including such records as development files, planning files, audit records, records inventories, records relating to budget matters, committee records, and paperwork reduction files. Also included is the agency web site. Proposed for permanent retention are such records as Indian Fiduciary Trust management and reform records, Freedom of Information Act appeals related to the Indian Fiduciary Trust, and executive committee and board membership records.

15. Department of the Interior, Office of Planning and Performance Management (N1-48-09-10, 8 items, 1 temporary item). Records of the office other than those proposed for permanent retention. Proposed for permanent retention are such records as strategic planning files, performance and accountability report files, budgets and associated performance information relating to agency components, and performance management governance files.

16. Department of Justice, Criminal Division (N1-60-07-2, 3 items, 1 temporary item). Organized Crime Drug Enforcement Task Force case files that have been incorporated into an electronic management information system. Proposed for permanent retention are master files of the electronic information system containing case information as well as older case files, which have not been incorporated into the system.

17. Department of Justice, Executive Office for United States Attorneys (N1-60-10-10, 2 items, 2 temporary items). Master files and outputs of an electronic information system containing emergency contact information for employees.

18. Department of Justice, United States Attorney's Office for the District of South Carolina (N1-118-09-1, 19 items, 8 temporary items). Records relating to a pilot project for intermodal and maritime security at the Port of Charleston. Included are such records as electronic information systems used for situational awareness and property asset tracking, intelligence working files, vessel arrival files, and routine reference and research photographs. Proposed for permanent retention are such records as organizational records, briefing materials, operating manuals, public relations records, subject files, and photographs of significant activities.

19. Department of State, Bureau of Public Affairs (N1-59-09-4, 4 items, 2 temporary items). Web site records that contain information duplicated in other agency recordkeeping systems. Also included are records that relate to management and operation of the Web site. Proposed for permanent retention are the agency's official blog and snapshots of the entire public Web site taken at the end of each Presidential administration.

20. Department of the Treasury, Internal Revenue Service (N1-58-09-48, 3 items, 3 temporary items). Master files, outputs, and system documentation for an electronic information system which is used to store data from estate tax returns and generate estate tax closing letters.

21. Department of the Treasury, Internal Revenue Service (N1-58-09-90, 2 items, 2 temporary items). Master files and system documentation for an electronic information system which is used to disclose tax return information to participating state and local governments.

22. Department of the Treasury, Internal Revenue Service (N1-58-09-91, 4 items, 4 temporary items). Master files and system documentation for an electronic information system which is used to monitor upcoming legal actions, media interest, and outreach activities related to criminal investigations.

23. Department of the Treasury, Internal Revenue Service (N1-58-09-93, 2 items, 2 temporary items). Master files and system documentation for an electronic information system which is used to provide account transcripts to state tax collection agencies.

24. Department of the Treasury, Internal Revenue Service (N1-58-09-94, 2 items, 2 temporary items). Master files and system documentation for an electronic information system which is used to assist agency employees in processing taxpayer penalty relief requests.

25. Department of the Treasury, Internal Revenue Service (N1-58-09-98, 3 items, 3 temporary items). Master files, inputs, and system documentation for an electronic information system which is used to transmit electronically filed tax returns to the appropriate tax processor.

26. Department of the Treasury, Internal Revenue Service (N1-58-09-99, 6 items, 6 temporary items). Master files, outputs, and system documentation for an electronic information system which is used to track remittances that cannot be credited to the taxpayer and are considered excess collections.

27. Department of the Treasury, Internal Revenue Service (N1-58-09-100, 6 items, 6 temporary items). Master files, outputs, and system documentation for an electronic information system which is used to track remittances that cannot be immediately credited because the taxpayer has not been positively identified.

28. Department of the Treasury, Internal Revenue Service (N1-58-09-102, 4 items, 4 temporary items). Master files, inputs, outputs, and system documentation for an electronic information system which is used to maintain information concerning applicants for and participants in the Health Coverage Tax Credit program.

29. Central Intelligence Agency, Agency-wide (N1-263-06-3, 14 items, 13 temporary items). Records relating to records and information management activities. Included are such records as security classified records control and tracking logs, library services files, forms files, subject files relating to records management, indexes to temporary records, and records disposition schedules. Proposed for permanent retention are indexes to records scheduled for permanent retention.

30. Export-Import Bank of the United States, Chief Information Office (N1-275-09-4, 3 items, 3 temporary items). Master files of an electronic information system used to facilitate the Bank's loan pre-approval process.

31. Federal Maritime Commission, Office of the Secretary (N1-358-09-6, 2 items, 2 temporary items). Informal complaints and dispute resolution case files relating to shipping disputes. Also included are master files of an electronic information system that is used to assign cases to staff and monitor their status.

32. Federal Maritime Commission, Bureau of Certification and Licensing (N1-358-09-4, 1 item, 1 temporary item). Master files of an electronic information system that contains data about passenger vessels and their insurance coverage against potential claims.

33. Federal Maritime Commission, Bureau of Certification and Licensing (N1-358-09-5, 1 item, 1 temporary item). Master files of an electronic information system that contains data about potentially unlicensed ocean transportation intermediaries.

Dated: March 25, 2010.
Michael J. Kurtz,
Assistant Archivist for Records Services—Washington, DC.

[FR Doc. 2010-7334 Filed 3-30-10; 8:45 am]

BILLING CODE 7515-01-P